ENVIRONMENTAL PROTECTION AGENCY

[FRL-8247-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 2193.01; Energy Star Program in the Residential Sector; was approved 11/08/2006; OMB Number 2060-0586; expires 11/30/2009.

EPA ICR No. 0795.12; Notification of Chemical Exports—TSCA Section 12(b); in 40 CFR part 707, subpart D; was approved 11/07/2006; OMB Number 2070-0030; expires 11/30/2009.

EPA ICR No. 0597.09; Tolerance Petitions for Pesticides on Food/Feed Crops and New Inert Ingredients; in 40 CFR part 152.50, 40 CFR part 160, 40 CFR part 163, 40 CFR part 177 and 40 CFR part 180; was approved 11/07/2006; OMB Number 2070-0024; expires 11/30/2009.

EPA ICR No. 1631.02; Standards for Pesticide Containers and Containment (Final Rule); in 40 CFR part 165; was approved 11/07/2006; OMB Number 2070-0133; expires 11/30/2009.

EPA ICR No. 1573.11; Part B Permit Application, Permit Modifications and Special Permits (Renewal); in 40 CFR parts 264.90, 264.193, 264.221, 264.251, 264.272, 264.301, 264.344, 270.1, 270.10, 270.14-270.29, 270.33, 270.40, 270.41, 270.42, 270.50, 270.51, 270.60, 270.62, 270.63, 270.64, 270.65 and 270.552; was approved 11/08/2006; OMB Number 2050-0009; expires 11/30/2009.

EPA ICR No. 0226.18; Applications for the National Pollutant Discharge Elimination System Discharge Permit and the Sewage Sludge Management Permit; in 40 CFR 122.26(b)(14)(i-xi), 40 CFR 122.21(b-l)(p)(q), 40 CFR 122.21(g)(7), 40 CFR 122.21(g)(13), 40 CFR 122.21(a)(2); was approved 10/31/2006; OMB Number 2040-0086; expires 10/31/2009.

EPA ICR No. 0916.12; Consolidated Emissions Reporting (Renewal); in 40 CFR 51.321, 51.322, 51.323; was approved 10/18/2006; OMB Number 2060-0088; expires 10/31/2009.

EPA ICR No. 1053.08; NSPS for Electric Utility Steam Generating Units (Renewal); in 40 CFR part 60, subpart Da; was approved 10/13/2006; OMB Number 2060-0023; expires 10/31/2007.

EPA ICR No. 1062.09; NSPS for Coal Preparation Plants (Renewal); in 40 CFR part 60, subpart Y; was approved 10/16/2006; OMB Number 2060-0122; expires 10/31/2009.

EPA ICR No. 1639.05; National Pollutant Discharge Elimination System Great Lakes Water Quality Guidance; in 40 CFR part 136, 40 CFR part 132, 40 CFR part 122; was approved 10/31/2006; OMB Number 2040-0180; expires 10/31/2009.

EPA ICR No. 1820.04; NPDES Storm Water Program Phase II; in 40 CFR 122.26(a), 40 CFR 122.26(c), 40 CFR 122.26(g), 40 CFR 122.33, 40 CFR 122.34(g), 40 CFR 123.25, 40 CFR 123.35; was approved 11/01/2006; OMB Number 2040-0211; expires 11/30/2009.

EPA ICR No. 1813.06; Information Collection Request for Proposed Regional Haze Regulations (Renewal); in 40 CFR parts 51.308 and 51.309; was approved 10/13/2006; OMB Number 2060-0421; expires 10/31/2009.

EPA ICR No. 1842.05; Notice of Intent for Storm Water Discharges Associated with Construction Activity Under a NPDES General Permit; in 40 CFR 122.26(c)(1)(ii), 40 CFR 122.28(b)(2), 40 CFR 122.41(h-i), 40 CFR 122.41(l), 40 CFR 122.44(K)(2); was approved 11/01/2006; OMB Number 2040-0188; expires 11/30/2009.

EPA ICR No. 1847.04; Federal Emission Guidelines for Large Municipal Waste Combustors Constructed on or Before September 20, 1994; in 40 CFR part 62, subpart FFF; was approved 11/01/2006; OMB Number 2060-0390; expires 11/30/2009.

EPA ICR No. 1989.04; Information Collection Request for the NPDES Regulation and Effluent Limitation Guidelines and Standards for Concentrated Animal Feeding Operations (Renewal); in 40 CFR 122, 40 CFR 122.21(i)(1)(i-xi), 40 CFR 122.21(f), 40 CFR 122.21(f)(1), 40 CFR 122.21(f)(7), 40 CFR 122.23(f)(1-3), 40 CFR 122.23(g-h), 40 CFR 122.28(b)(3)(iv), 40 CFR 122.41, 40 CFR 122.42(e)(1), 40 CFR 122.42(e)(1)(i-iv), 40 CFR 122.42(e)(4), 40 CFR 122.42(e)(3), 40 CFR 122.62, 40 CFR 122.62(b)(2-4), 40 CFR 123, 40 CFR 123.25, 40 CFR 123.40, 40 CFR 123.25(a)(22, 27, 30, 31, 33, 34), 40 CFR 123.26(b), 40 CFR 123.42(e)(3-4), 40 CFR 123.42(e)(4)(i-vi), 40 CFR 123.62, 40 CFR 123.62(a), 40 CFR 123.62(b)(1), 40 CFR 412, 40 CFR 412(a)(1)(i-iii), 40 CFR 412.37(b), 40 CFR 412.37(b)(1-6), 40 CFR 412.37(c), 40 CFR 412.37(c)(1-9); was approved 11/01/2006; OMB Number 2040-0250; expires 11/30/2009.

EPA ICR No. 1900.03; NSPS for Small Municipal Waste Combustors (Renewal); in 40 CFR part 60, subpart AAAA; was approved 10/25/2006; OMB Number 2060-0423; expires 10/31/2009.

EPA ICR No. 1901.03; NSPS for Emission Guidelines and Compliance Times for Small Municipal Waste Combustion Units Constructed on or before August 30, 1999 (Renewal); in 40 CFR part 60, subpart BBBB; was approved 10/13/2006; OMB Number 2060-0424; expires 10/31/2009.

EPA ICR No. 2100.02; Reporting Requirements under EPA's Climate Leaders Partnership (Renewal); was approved 10/16/2006; OMB Number 2060-0532; expires 10/31/2008.

EPA ICR No. 2176.01; Survey of Drinking Water Treatment Facilities; was approved 10/27/2006; OMB Number 2040-0269; expires 10/31/2009.

EPA ICR No. 2207.02; Exchange Network Grants Progress Report (Renewal); was approved 11/02/2006; OMB Number 2025-0006; expires 11/30/2009.

EPA ICR No. 2212.02; Minority Business Enterprise/Woman Business Enterprise (MBE/WBE) Utilization under Federal Grants Cooperative Agreements and Interagency Agreements (Renewal); was approved 10/24/2006; OMB Number 2090-0025; expires 10/31/2009.

EPA ICR No. 2236.01; Final 0.08ppm, 8-hour Ozone National Ambient Air Quality Standard (NAAQS) Implementation Rule; in 40 CFR part 51; was approved 10/31/2006; OMB Number 2060-0594; expires 04/30/2007.

EPA ICR No. 2192.02; Revisions to the Unregulated Contaminant Monitoring Regulation (UCMR) for Public Water Systems (Final Rule); in 40 CFR 141.35 and 40 CFR 141.40; OMB Number 2040-0270; was approved 11/09/2006; expires 11/30/2009.

Comment Filed

EPA ICR No. 2226.01; Revisions to Standards of Performance for New Stationary Sources, National Emission Standards for Hazardous Air Pollutants, and NESHAP for Source Categories (Proposed Rule); OMB filed comments on 10/25/2006.

EPA ICR No. 0559.09; Application for Reference and Equivalent Method Determination (Proposed Rule); OMB filed comment on 10/17/2006.

Disapproved

EPA ICR No. 2221.01; Smart Growth and Active Aging National Recognition Program; OMB disapproved by OMB on 10/31/2006.

EPA ICR No. 1896.06; Disinfectants/Disinfection Byproducts, Chemicals and Radionuclides Rules (Proposed Rule for Short Term Revisions for Lead and Copper); OMB disapproved proposed rule and continued existing collection on 10/20/2006.

Withdrawn

EPA ICR No. 2187.01; Population-based Pilot Study of Children's Environmental Health: Babies and Environments First in North Carolina (BEFirstNC) was withdrawn by agency on 11/09/2006.

Dated: November 16, 2006.
Oscar Morales,
Director, Collection Strategies Division.

[FR Doc. E6-19884 Filed 11-22-06; 8:45 am]

BILLING CODE 6560-50-P